DEPARTMENT OF TRANSPORTATION

Federal Aviation Administration

[Docket Number: FAA-2019-0946]

Pilot Records Improvement Act; Agency Information Collection Activities: Requests for Comments; Clearance of a Renewed Approval of Information Collection: Pilot Records Improvement Act of 1996/Pilot Record Database

AGENCY: Federal Aviation Administration (FAA), DOT.

ACTION: Notice and request for comments.

SUMMARY: In accordance with the Paperwork Reduction Act of 1995, FAA invites public comments about our intention to request the Office of Management and Budget (OMB) approval to renew an information collection. This collection involves the pilot/applicant's name, home address which is provided by the applicant, and his/her FAA certificate number. In most cases, the certificate number is one that has been assigned by Airmen Certification. The information collected is imperative to be able to identify the airman in order to process the required background check for the potential hiring air carrier employer.

DATES: Written comments should be submitted by February 24, 2020.

ADDRESSES: Please send written comments:

By Electronic Docket: www.regulations.gov (Enter docket number into search field).

By mail: FEDERAL AVIATION ADMINISTRATION, ATTN: Aviation Data Systems Branch, AFS-620 (PRD/PRIA), PO Box 25082, Oklahoma City, OK 73125-0082.

By fax: 405-954-4655.

FOR FURTHER INFORMATION CONTACT: Christopher Morris by email at: christopher.morris@faa.gov or by calling 405-954-4646.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0607.

Title: Pilot Records Improvement Act of 1996/Pilot Record Database.

Form Numbers:

FAA 8060-10 FAA RECORDS REQUEST (PRIA)

FAA 8060-10 AIRMAN NOTICE AND RIGHT TO RECEIVE COPY—FAA RECORDS (PRIA)

FAA 8060-11 AIR CARRIER AND OTHER RECORDS REQUEST (PRIA)

FAA 8060-11A AIRMAN NOTICE AND RIGHT TO RECEIVE COPY—AIR CARRIER AND OTHER RECORDS (PRIA)

FAA 8060-12 AUTHORIZATION FOR RELEASE OF DOT DRUG AND ALCOHOL TESTING RECORDS UNDER PRIA AND MAINTAINED UNDER TITLE 49 CODE OF FEDERAL REGULATIONS (49 CFR) PART 40

FAA 8060-13 NATIONAL DRIVER REGISTER RECORDS REQUEST (PRIA)

FAA FORM 8060-XX PILOT CONSENT/REVOCATION FOR AIR CARRIER ACCESS TO PILOT RECORDS DATABASE

Type of Review: Renewal of an information collection.

Background: The Pilot Records Improvement Act of 1996 (PRIA) as amended, was enacted to ensure that part 121, 125 and 135 air carriers and air operators adequately investigate a pilot's background before allowing that pilot to conduct commercial air carrier flights for their company. Under PRIA, a hiring employer cannot place a pilot into service until they obtain, reviews and approve the pilot's background and other safety-related records for the past 5 year period as specified in PRIA. The FAA information disclosed under PRIA are medical and airman certificate verifications and any closed enforcement and revocation data. The air carrier information disclosed under PRIA are those concerning pilot performance and training, disciplinary and removal from service, and drug and alcohol testing records. Records from the Department of Motor Vehicles of any particular State would include records of drug and alcohol convictions. Other records collections such as financial statements, fingerprints and failed check rides may be requested and received but they are outside the purview and scope of PRIA and would be requested using other vehicles than the PRIA forms. PRIA request forms can be received by fax or mail; however, the most common method is by email attachment, one pilot/applicant per one form. Each 8060-10 form will include all information needed to process the requested PRIA report. FAA Form 8060-xx is being added to this collection to allow pilots to release their FAA-records to a hiring aviation employer when they cannot release the records themselves via the PRD website. Use of FAA Form 8060-xx is not required if FAA Form 8060-10 is used or if the pilot releases the records themselves via the PRD website.

Respondents: The PRIA representative at each part 121, 125 and 135 air carrier is responsible for completing, forwarding, receiving and providing the air carrier with the completed PRIA report so the air carrier can make a more informed hiring decision concerning each pilot/applicant. One complete PRIA package is required for every pilot/applicant. The FAA processes approximately 24,120 PRIA packages per year from respondents.

Frequency: On occasion.

Estimated Average Burden per Response: 98 hours.

Estimated Total Annual Burden: 2,086,380 hours.

Issued in Oklahoma City, OK on December 18, 2019.
Christopher Morris,
PRD/PRIA Program Manager, Regulatory Support Division, Flight Standards Service, Office of Aviation Safety AFS-620.

[FR Doc. 2019-27707 Filed 12-23-19; 8:45 am]

BILLING CODE 4910-13-P